NUCLEAR REGULATORY COMMISSION

[Docket No. 50-336]

Dominion Nuclear Connecticut, Inc.; Millstone Nuclear Power Station, Unit No. 2, Environmental Assessment and Finding of No Significant Impact

The U.S. Nuclear Regulatory Commission (NRC) is considering issuance of an amendment to Facility Operating License No. DPR-65 issued to Dominion Nuclear Connecticut, Inc. (the licensee), for operation of the Millstone Nuclear Power Station, Unit No. 2 (MP2), located in Waterford, Connecticut. Therefore, as required by 10 CFR 51.21, the NRC is issuing this environmental assessment and finding of no significant impact.

Environmental Assessment

Identification of the Proposed Action

The proposed action would revise the MP2 Final Safety Analysis Report (FSAR), Chapter 14, description of the Steam Generator Tube Rupture (SGTR) event. The changes are the result of incorporating a postulated loss of offsite power (LOOP) into the event analyses as well as revised assumptions and analysis methodology.

The proposed action is in accordance with the licensee's application dated December 21, 2000, as supplemented by letter dated June 29, 2001.

The Need for the Proposed Action

General Design Criterion (GDC) 17, “Electric Power Systems,” of Appendix A to 10 CFR part 50, “General Design Criteria for Nuclear Power Plants” requires that fuel design limits and design conditions of the reactor coolant pressure boundary are not exceeded as a result of anticipated operational occurrences including a LOOP and that the core is cooled and containment integrity and other vital functions are maintained in the event of postulated accidents including an SGTR. Currently, the description of an SGTR in the MP2 FSAR does not include a concurrent LOOP. Therefore, the licensee submitted a revision to the MP2 FSAR to include an SGTR concurrent with a LOOP.

Environmental Impacts of the Proposed Action

The NRC has completed its evaluation of the proposed action and concludes that issuance of the proposed amendment would not have a significant environmental impact. The proposed changes to the FSAR provide documentation of a combination of events not previously included in the FSAR. The likelihood of an SGTR concurrent with a LOOP, along with the radiological consequences, are independent of the proposed action to revise the FSAR to include this combination of events. The analysis shows that the radiological consequences of an SGTR concurrent with a LOOP are within the limits of 10 CFR Part 100, Reactor Site Criteria, and GDC-19, Control Room.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement for MP2, dated June 1973.

Agencies and Persons Consulted

On February 25, 2002, the staff consulted with the Connecticut State official, Mr. Michael Firsick of the Connecticut Department of Environmental Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 21, 2000, as supplemented by letter dated June 29, 2001. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or by e-mail to pdr@nrc.gov.

Dated at Rockville, Maryland, this 8th day of April 2002.
For the Nuclear Regulatory Commission.
Richard B. Ennis, Sr.,
Project Manager, Section 2, Project Directorate I, Division of Licensing Project Management, Office of Nuclear Reactor Regulation.

[FR Doc. 02-8865 Filed 4-11-02; 8:45 am]

BILLING CODE 7590-01-P